DEPARTMENT OF ENERGY

Federal Energy Regulatory Commission

Combined Notice of Filings #1

Take notice that the Commission received the following exempt wholesale generator filings:

Docket Numbers: EG24-285-000.

Applicants: Kalamazoo Generating Station, LLC.

Description: Kalamazoo Generating Station, LLC submits Amendment to Notice of Self-Certification of Exempt Wholesale Generator Status.

Filed Date: 9/27/24.

Accession Number: 20240927-5028.

Comment Date: 5 p.m. ET 10/18/24.

Docket Numbers: EG24-286-000.

Applicants: Livingston Generating Station, LLC.

Description: Livingston Generating Station, LLC submits Amendment to Notice of Self-Certification of Exempt Wholesale Generator Status.

Filed Date: 9/27/24.

Accession Number: 20240927-5026.

Comment Date: 5 p.m. ET 10/18/24.

Take notice that the Commission received the following Complaints and Compliance filings in EL Dockets:

Docket Numbers: EL24-145-000; QF24-935-001.

Applicants: PFMD-LL-Jessup, LLC, PFMD-LL-Jessup, LLC.

Description: Petition for Declaratory Order of PFMD-LL-Jessup, LLC.

Filed Date: 9/24/24.

Accession Number: 20240924-5171.

Comment Date: 5 p.m. ET 10/24/24.

Docket Numbers: EL24-147-000.

Applicants: Ponderosa Power, LLC v. North Western Corporation.

Description: Complaint of Ponderosa Power, LLC v. North Western Corporation.

Filed Date: 9/26/24.

Accession Number: 20240926-5060.

Comment Date: 5 p.m. ET 10/16/24.

Take notice that the Commission received the following electric rate filings:

Docket Numbers: ER24-3124-000.

Applicants: Southwest Power Pool, Inc.

Description: 205(d) Rate Filing 3293R5 T.

Filed Date: 9/27/24.

Accession Number: 20240927-5014.

Comment Date: 5 p.m. ET 10/18/24.

Docket Numbers: ER24-3125-000.

Applicants: PJM Interconnection, L.L.C.

Description: 205(d) Rate Filing: Original GIA Service Agreement No. 7372, AF1-333, 337, 338, 339 to be effective 8/28/2024.

Filed Date: 9/27/24.

Accession Number: 20240927-5019.

Comment Date: 5 p.m. ET 10/18/24.

Docket Numbers: ER24-3126-000.

Applicants: Buckeye Power, Inc., PJM Interconnection, L.L.C.

Description: 205(d) Rate Filing: Buckeye Power, Inc. submits tariff filing per 35.13(a)(2)(iii: Revised SA No. 4753—NITSA Among PJM and Buckeye Power, Inc. to be effective 10/1/2024.

Filed Date: 9/27/24.

Accession Number: 20240927-5024.

Comment Date: 5 p.m. ET 10/18/24.

Docket Numbers: ER24-3127-000.

Applicants: Sun Pond, LLC.

Description: 205(d) Rate Filing: Market-Based Rate Application and Request for Expedited Action to be effective 10/28/2024.

Filed Date: 9/27/24.

Accession Number: 20240927-5083.

Comment Date: 5 p.m. ET 10/18/24.

Docket Numbers: ER24-3128-000.

Applicants: Tri-State Generation and Transmission Association, Inc.

Description: 205(d) Rate Filing: Initial Filing of Rate Schedule FERC Nos. 387 Through 391 to be effective 10/1/2024.

Filed Date: 9/27/24.

Accession Number: 20240927-5115.

Comment Date: 5 p.m. ET 10/18/24.

Docket Numbers: ER24-3129-000.

Applicants: Midcontinent Independent System Operator, Inc.

Description: 205(d) Rate Filing: 2024-09-27_SA 4354 ATC-WPL GIA (J1745) to be effective 9/19/2024.

Filed Date: 9/27/24.

Accession Number: 20240927-5119.

Comment Date: 5 p.m. ET 10/18/24.

Docket Numbers: ER24-3130-000.

Applicants: Apex Solar, LLC.

Description: Baseline eTariff Filing: Apex Solar, LLC MBR Tariff to be effective 11/27/2024.

Filed Date: 9/27/24.

Accession Number: 20240927-5135.

Comment Date: 5 p.m. ET 10/18/24.

Docket Numbers: ER24-3131-000.

Applicants: Two Hearted Solar, LLC.

Description: Baseline eTariff Filing: Two Hearted Solar, LLC MBR Tariff to be effective 11/27/2024.

Filed Date: 9/27/24.

Accession Number: 20240927-5136.

Comment Date: 5 p.m. ET 10/18/24.

Docket Numbers: ER24-3132-000.

Applicants: West River Solar, LLC.

Description: Baseline eTariff Filing: West River Solar, LLC MBR Tariff to be effective 11/27/2024.

Filed Date: 9/27/24.

Accession Number: 20240927-5137.

Comment Date: 5 p.m. ET 10/18/24.

Docket Numbers: ER24-3133-000.

Applicants: PJM Interconnection, L.L.C.

Description: 205(d) Rate Filing: Amendment to ISA SA Nos. 2775, AB2-092 & 4291, Y3-048 (amend) to be effective 11/27/2024.

Filed Date: 9/27/24.

Accession Number: 20240927-5143.

Comment Date: 5 p.m. ET 10/18/24.

Docket Numbers: ER24-3134-000.

Applicants: PJM Interconnection, L.L.C.

Description: 205(d) Rate Filing: Amendment to ISA and ICSA, SA Nos. 6606 & 6607; Queue No. AD1-022 (amend) to be effective 11/27/2024.

Filed Date: 9/27/24.

Accession Number: 20240927-5187.

Comment Date: 5 p.m. ET 10/18/24.

Docket Numbers: ER24-3135-000.

Applicants: PJM Interconnection, L.L.C.

Description: 205(d) Rate Filing: Revisions for Automating Demand Response Parameters to be effective 12/31/9998.

Filed Date: 9/27/24.

Accession Number: 20240927-5197.

Comment Date: 5 p.m. ET 10/18/24.

Docket Numbers: ER24-3136-000.

Applicants: Public Service Company of Colorado.

Description: 205(d) Rate Filing: 2024-xx-xx PSCo-WAPA-PRPA Dyn Trnsfr Craig Alloc-449-0.1.0 to be effective 9/28/2024.

Filed Date: 9/27/24.

Accession Number: 20240927-5209.

Comment Date: 5 p.m. ET 10/18/24.

Docket Numbers: ER24-3137-000.

Applicants: PJM Interconnection, L.L.C.

Description: 205(d) Rate Filing: Amendment to ISA SA No. 4525, Z2-089/AA2-099 to be effective 11/27/2024.

Filed Date: 9/27/24.

Accession Number: 20240927-5230.

Comment Date: 5 p.m. ET 10/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 27, 2024.
Debbie-Anne A. Reese,
Acting Secretary.

[FR Doc. 2024-22853 Filed 10-2-24; 8:45 am]

BILLING CODE 6717-01-P